DEPARTMENT OF HEALTH AND HUMAN SERVICES

Biomedical Advanced Research and Development Authority Industry Day 2022

AGENCY: Administration for Strategic Preparedness and Response (ASPR), Department of Health and Human Services (HHS).

ACTION: Notice.

SUMMARY: The Biomedical Advanced Research and Development Authority (BARDA) annually hosts BARDA Industry Day (BID), a two-day conference with our industry and government partners to share BARDA's goals and objectives, increase awareness of U.S. government medical countermeasure (MCM) priorities, and facilitate coordination and collaboration between public and private sectors within the health security space.

DATES: BID 2022 will be held virtually from Tuesday, November 15-Wednesday, November 16, 2022. The meeting will begin each day at 9 a.m. Eastern Standard Time.

ADDRESSES: Procedures for Public Participation: This meeting is open to the public. Register here: https://www.medicalcountermeasures.gov/barda/barda-industry-day-2022/.

FOR FURTHER INFORMATION CONTACT: Ezinne N. Ebi, Biomedical Advanced Research & Development Authority (BARDA), ezinne.ebi@hhs.gov, (202) 989-5539.

SUPPLEMENTARY INFORMATION: This year, BARDA plans to discuss the organization's new five-year strategic plan, which focuses on strengthening the health security of the nation, embracing lessons learned from the COVID-19 pandemic, incorporating new avenues of promising research and development, and addressing the imperative for MCMs that are safe, effective, and widely accessible to all Americans. BID 2022 will be an exciting opportunity to explore how the field of MCMs is on the cutting edge of innovation, and how we can work together to prepare for 21st century health security threats.

Dawn O'Connell,
Assistant Secretary for Preparedness and Response.

[FR Doc. 2022-22169 Filed 10-12-22; 8:45 am]

BILLING CODE 4150-37-P